DEPARTMENT OF TRANSPORTATION

Federal Aviation Administration

14 CFR Part 39

[Docket No. 2002-NM-87-AD; Amendment 39-13418; AD 2004-01-04]

RIN 2120-AA64

Airworthiness Directives; Empresa Brasileira de Aeronautica S.A. (EMBRAER) Model EMB-120 Series Airplanes

AGENCY: Federal Aviation Administration, DOT.

ACTION: Final rule.

SUMMARY: This amendment supersedes an existing airworthiness directive (AD), applicable to certain EMBRAER Model EMB-120 series airplanes, that currently requires revising the airplane flight manual (AFM), and either installing hydraulic tube assemblies incorporating a check valve, or visually inspecting the check valve if already installed and performing corrective actions if necessary. This action adds airplanes to the applicability of the existing AD. The actions specified by this AD are intended to prevent the landing gear doors from becoming blocked from opening during application of emergency procedures in the event of a loss of hydraulics. This action is intended to address the identified unsafe condition.

DATES: Effective February 13, 2004.

The incorporation by reference of certain publications listed in the regulations is approved by the Director of the Federal Register as of February 13, 2004.

The incorporation by reference of certain publications listed in the regulations was approved previously by the Director of the Federal Register as of November 13, 2000 (65 FR 59708, October 6, 2000).

ADDRESSES: The service information referenced in this AD may be obtained from Empresa Brasileira de Aeronautica S.A. (EMBRAER), PO Box 343—CEP 12.225, Sao Jose dos Campos—SP, Brazil. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) by superseding AD 2000-20-05, amendment 39-11916 (65 FR 59708, October 6, 2000), which is applicable to certain EMBRAER Model EMB-120 series airplanes, was published in the Federal Register on October 2, 2003 (68 FR 56801). That action proposed to require revising the airplane flight manual (AFM), and either installing hydraulic tube assemblies incorporating a check valve, or visually inspecting the check valve if already installed and performing corrective actions if necessary. The action also proposed to add airplanes to the applicability of the existing AD.

Comments

Interested persons have been afforded an opportunity to participate in the making of this amendment. No comments were submitted in response to the proposal or the FAA's determination of the cost to the public.

Conclusion

We have determined that air safety and the public interest require the adoption of the rule as proposed.

Cost Impact

We estimate that 219 airplanes of U.S. registry will be affected by this AD. This AD adds no new requirements, but only adds airplanes to the applicability of the existing AD. This AD adds no new economic burden on affected operators, but since issuance of AD 2000-20-05, the estimated labor rate has increased from $60 to $65 per work hour, and the estimated cost for required parts has increased from $2,021 to $2,129. The current costs associated with this AD are otherwise reiterated in their entirety as follows for the convenience of affected operators:

The AFM revision that is currently required by AD 2000-20-05, and retained in this AD, takes approximately 1 work hour per airplane to accomplish, at an average labor rate of $65 per work hour. Based on these figures, the cost impact of the currently required AFM revision on U.S. operators is estimated to be $14,235, or $65 per airplane.

The general visual inspection that is currently required by AD 2000-20-05, and retained in this AD, takes approximately 1 work hour per airplane to accomplish, at an average labor rate of $65 per work hour. Based on these figures, the cost impact of the currently required general visual inspection on U.S. operators is estimated to be $14,235, or $65 per airplane.

The installation of hydraulic tube assemblies that include check valves that is currently required by AD 2000-20-05, and retained in this AD, takes approximately 2 work hours per airplane to accomplish, at an average labor rate of $65 per work hour. Required parts cost approximately $2,129 per airplane. Based on these figures, the cost impact of the currently required actions on U.S. operators is estimated to be $494,921, or $2,259 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11916 (65 FR 59708, October 6, 2000), and by adding a new airworthiness directive (AD), amendment 39-13418, to read as follows:

2004-01-04 Empresa Brasileira de Aeronautica S.A. (Embraer): Amendment 39-13418. Docket 2002-NM-87-AD. Supersedes AD 2000-20-05, Amendment 39-11916.

Applicability: Model EMB-120 series airplanes as listed in EMBRAER Service Bulletin 120-32-0077, Change 03, dated August 3, 2001; certificated in any category.

Compliance: Required as indicated, unless accomplished previously.

To prevent the landing gear doors from becoming blocked from opening during application of emergency procedures in the event of a loss of hydraulics, accomplish the following:

Restatement of Requirements of AD 2000-20-05: Airplane Flight Manual (AFM) Revision

(a) For airplanes subject to AD 2000-20-05: Within 10 flight hours after November 13, 2000 (the effective date of AD 2000-20-05, amendment 39-11916), revise the “Emergency Procedures” and “Abnormal Procedures” sections of the airplane flight manual (AFM) by inserting into the AFM a copy of EMB-120 AFM 120/794, Revision 45, dated October 14, 1996.

Note 1: Airplanes subject to AD 2000-20-05 are those listed in EMBRAER Service Bulletin 120-32-0077, Change 02, dated December 23, 1997.

Inspection and Corrective Actions

(b) For airplanes subject to AD 2000-20-05, on which the check valve has been installed in accordance with EMBRAER Service Bulletin 120-32-0077, dated February 7, 1997: Within 100 flight hours after November 13, 2000, conduct a general visual inspection to detect the check valve flow direction in accordance with EMBRAER Service Bulletin 120-32-0077, Change 02, dated December 23, 1997; or Change 03, dated August 3, 2001. If the check valve is installed incorrectly, prior to further flight, reinstall the check valve in the proper position in accordance with Change 02 or Change 03 of the service bulletin.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(c) For airplanes subject to AD 2000-20-05, that are not equipped with the check valve installed in accordance with EMBRAER Service Bulletin 120-32-0077, dated February 7, 1997; Change 01, dated September 25, 1997; Change 02, dated December 23, 1997; or Change 03, dated August 3, 2001: Within 2,000 flight hours after November 13, 2000, install hydraulic tube assemblies incorporating a check valve in accordance with EMBRAER Service Bulletin 120-32-0077, Change 01, dated September 25, 1997; Change 02, dated December 23, 1997; or Change 03, dated August 3, 2001.

New Requirements of This AD

Note 3: Airplanes not subject to AD 2000-20-05 are those airplanes added by Change 03 of EMBRAER Service Bulletin 120-32-0077, dated August 3, 2001.

Airplane Flight Manual (AFM) Revision

(d) For airplanes not subject to AD 2000-20-05: Within 10 flight hours after the effective date of this AD, revise the “Emergency Procedures” and “Abnormal Procedures” sections of the airplane flight manual (AFM) by inserting into the AFM a copy of EMB-120 AFM 120/794, Revision 45, dated October 14, 1996.

Inspection and Corrective Actions

(e) For airplanes that are not subject to AD 2000-20-05, and on which the check valve has been installed in accordance with EMBRAER Service Bulletin 120-32-0077, dated February 7, 1997: Within 100 flight hours after the effective date of this AD, accomplish all of the applicable actions in accordance with the Accomplishment Instructions of EMBRAER Service Bulletin 120-32-0077, Change 03, dated August 3, 2001.

(f) For airplanes not subject to AD 2000-20-05, on which the check valve has not been installed in accordance with EMBRAER Service Bulletin 120-32-0077, dated February 7, 1997; or Change 01, dated September 25, 1997; or Change 02, dated December 23, 1997: Within 2,000 flight hours after the effective date of this AD, accomplish all of the applicable actions in accordance with the Accomplishment Instructions of EMBRAER Service Bulletin 120-32-0077, Change 03, dated August 3, 2001.

(g) Accomplishment of the specified actions before the effective date of this AD per EMBRAER Service Bulletin 120-32-0077, Change 01, dated September 25, 1997; or Change 02, dated December 23, 1997; is considered acceptable for compliance with the applicable requirements of paragraphs (e) and (f) of this AD.

Alternative Methods of Compliance

(h) In accordance with 14 CFR 39.19, the Manager, International Branch, ANM-116, Transport Airplane Directorate, FAA, is authorized to approve alternative methods of compliance for this AD.

Incorporation by Reference

(i) Unless otherwise specified in this AD, the actions shall be done in accordance with EMBRAER Service Bulletin 120-32-0077, Change 01, dated September 25, 1997; EMBRAER Service Bulletin 120-32-0077, Change 02, dated December 23, 1997; and EMBRAER Service Bulletin 120-32-0077, Change 03, dated August 3, 2001; as applicable.

(1) The incorporation by reference of EMBRAER Service Bulletin 120-32-0077, Change 01, dated September 25, 1997; and EMBRAER Service Bulletin 120-32-0077, Change 03, dated August 3, 2001; is approved by the Director of the Federal Register, in accordance with 5 U.S.C. 552(a) and 1 CFR part 51.

(2) The incorporation by reference of EMBRAER Service Bulletin 120-32-0077, Change 02, dated December 23, 1997, was approved previously by the Director of the Federal Register as of November 13, 2000 (65 FR 59708, October 6, 2000).

(3) Copies may be obtained from Empresa Brasileira de Aeronautica S.A. (EMBRAER), PO Box 343—CEP 12.225, Sao Jose dos Campos—SP, Brazil. Copies may be inspected at the FAA, Transport Airplane Directorate, 1601 Lind Avenue, SW., Renton, Washington; or at the Office of the Federal Register, 800 North Capitol Street, NW., suite 700, Washington, DC.

Note 4: The subject of this AD is addressed in Brazilian airworthiness directive 97-05-03R3, dated October 2, 2001.

Effective Date

(j) This amendment becomes effective on February 13, 2004.

Issued in Renton, Washington, on December 29, 2003.
Ali Bahrami,
Acting Manager, Transport Airplane Directorate, Aircraft Certification Service.

[FR Doc. 04-125 Filed 1-8-04; 8:45 am]

BILLING CODE 4910-13-P